OFFICE OF THE UNITED STATES TRADE REPRESENTATIVE

Generalized System of Preferences (GSP): Notice Regarding the 2003 Product and Country Practice Review and On Certain Product Petitions From Previous Reviews on Which Decisions Were Deferred

AGENCY: Office of the United States Trade Representative.

ACTION: Notice.

SUMMARY: The Office of the United States Trade Representative (USTR) received petitions in 2003 to modify the list of products that are eligible for duty-free treatment under the GSP program and to modify the GSP status of certain GSP beneficiary developing countries because of country practices. This notice announces the product and country practice petitions that are accepted for further review in the 2003 GSP Annual Review and sets forth the schedule for comment and public hearing on these petitions and on certain product petitions from previous reviews on which there was a deferral of decisions, for requesting participation in the hearing, and for submitting pre-hearing and post-hearing briefs.

FOR FURTHER INFORMATION CONTACT: Contact the GSP Subcommittee of the Trade Policy Staff Committee, Office of the United States Trade Representative, 1724 F Street, NW., Room F-220, Washington, DC 20508. The telephone number is (202) 395-6971.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

In a Federal Register notice dated July 16, 2003, USTR extended the due date for the filing of product and country practice petitions for the 2003 GSP Annual Review to September 2, 2003 (68 FR 42156). The product petitions received requested changes in the list of eligible products by adding or removing products, or by waiving the “competitive need limitations” (CNLs) for a country for eligible articles. Authorization for granting CNL waivers is set forth in section 503(d) of the 1974 Act (19 U.S.C. 2463(d)). The country practice petitions received requested the review of certain practices in certain beneficiary developing countries to determine whether such countries are in compliance with the eligibility criteria set forth in sections 502(b) and 502(c) of the 1974 Act.

The interagency GSP Subcommittee of the Trade Policy Staff Committee (TPSC) has reviewed both the product and country practice petitions, and the TPSC has decided to initiate a full review of the product petitions listed in Annex II and not to initiate a full review of the country practice petitions submitted. Annex II to this notice sets forth, for each type of change requested: the case number, the Harmonized Tariff Schedule of the United States (HTS) subheading number, a brief description of the product (see the HTS for an authoritative description available on the U.S. International Trade Commission (USITC) Web site http://www.usitc.gov/taffairs.htm), and the petitioner for each petition included in this review. Acceptance of a petition for review does not indicate any opinion with respect to the disposition on the merits of the petition. Acceptance indicates only that the listed petitions have been found eligible for review by the TPSC and that such review will take place.

Modifications to the list of articles eligible for duty-free treatment under the GSP resulting from the 2003 Annual Review will be announced on or about June 30, 2004, in the Federal Register, and any changes will take effect on the effective date to be announced.

In a Federal Register notice dated July 3, 2003, USTR announced decisions in the 2001 Special Three Country Review for Argentina, Philippines, and Turkey, the 2001 GSP-AGOA (African Growth and Opportunity Act) Review, and the 2002 Annual Product Review (68 FR 40012), including the deferral of decisions on certain product petitions requesting the addition or removal of certain products from the Generalized System of Preferences. These petitions are described in Annex III.

Opportunities for Public Comment and Inspection of Comments

The GSP Subcommittee of the TPSC invites comments in support of or in opposition to any petition which is included in this Annual Review (Annex II) or any petition on which there was a deferral of decision (Annex III). Submissions should comply with 15 CFR part 2007, except as modified below. All submissions should identify the subject article(s) in terms of the case number and HTS subheading number as shown in Annexes II and III. The GSP regulations (15 CFR part 2007) provide the schedule of dates for conducting an annual review unless otherwise specified in a Federal Register notice. This notice specifies the revised schedule for public comment and hearings, set out in Annex I.

Requirements for Submissions

In order to facilitate prompt processing of submissions, USTR strongly urges and prefers electronic e-mail submissions in response to this notice. Hand delivered submissions will not be accepted. These submissions should be single copy transmissions in English with the total submission not to exceed 50 single-spaced standard letter-size pages. E-mail submissions should use the following subject line: “2003 GSP Annual Review” followed by the Case Number and HTS subheading number found in the Annex II or Annex III (for example, 2003-07 4107.11.80) and, as appropriate “Written Comments”, “Notice of Intent To Testify”, “Pre-hearing brief”, “Post-hearing brief” or “Comments on USITC Advice”. (For example, an e-mail subject line might read “2003-07 4107.11.80 Written Comments”.) Documents, in English, must be submitted in either of the following formats: WordPerfect (.WPD), MSWord (.DOC) , or text (.TXT) files. Documents cannot be submitted as electronic image files or contain imbedded images (for example, “.JPG”, “.PDF”, “.BMP”, or “.GIF”) as these graphic type files are generally excessively large. E-mail submissions containing such files will not be accepted. Supporting documentation submitted as spreadsheets are acceptable as Quattro Pro or Excel files, formatted for printing only on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each and every page of the document. The public version, which does not contain business confidential information, must also be clearly marked at the top and bottom of each and every page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including identifying information on the sender, including sender's e-mail address. The e-mail address for these submissions is FR0081@USTR.GOV. Documents not submitted in accordance with these instructions might not be considered in this review. If unable to provide submissions by e-mail, please contact the GSP Subcommittee to arrange for an alternative method of transmission.

Information submitted will be subject to public inspection shortly after the relevant due dates by appointment with the staff of the USTR public reading room, except for information submitted and properly marked that is granted “business confidential” status pursuant to 15 CFR 2003.6 and other qualifying information submitted in confidence pursuant to 15 CFR 2007.7. Public versions of all documents relating to this review will be available for review after the relevant due date by appointment in the USTR public reading room, 1724 F Street, NW., Washington, DC. Appointments may be made from 9:30 a.m. to noon and 1 p.m. to 4 p.m., Monday through Friday, by calling (202) 395-6186.

Notice of Public Hearings

Hearings will be held by the GSP Subcommittee of the TPSC on April 1, 2004, beginning at 10 a.m. at the U.S. International Trade Commission, Main Hearing Room, 500 E Street, SW., Washington, DC 20436. The hearings will be open to the public and a transcript of the hearings will be made available for public inspection or can be purchased from the reporting company. No electronic media coverage will be allowed.

All interested parties wishing to make an oral presentation at the hearings must submit, following the above “Requirements for Submissions”, the name, address, telephone number, and facsimile number and email address, if available, of the witness(es) representing their organization to the Chairman of the GSP Subcommittee by 5 p.m., March 15, 2004. Requests to present oral testimony in connection with the public hearings must be accompanied by a written brief or statement, in English, and also must be received by 5 p.m., March 15, 2004. Oral testimony before the GSP Subcommittee will be limited to five-minute presentations that summarize or supplement information contained in briefs or statements submitted for the record. Post-hearing briefs or statements will be accepted if they conform with the regulations cited above and are submitted, in English, by 5 p.m., April 15, 2004. Parties not wishing to appear at the public hearings may submit post-hearing written briefs or statements, in English, by 5 p.m., April 15, 2004.

In accordance with sections 503(a)(1)(A) and 503(e) of the 1974 Act and the authority delegated by the President, pursuant to section 332(g) of the Tariff Act of 1930, the U.S. Trade Representative has requested that the USITC provide its advice, with respect to the probable economic effect on United States industries producing like or directly competitive articles and on consumers of the following actions: (1) The elimination of U.S. import duties for all beneficiary developing countries and, with respect to certain articles, the effect of the elimination of United States import duties for least-developed beneficiary developing countries, (2) the removal from eligibility for duty-free treatment under the GSP for such article, and (3) whether any industry in the United States is likely to be adversely affected by a waiver of the competitive need limits specified in section 503(d)(1) of the 1974 Act for the country specified. Comments by interested persons on the USITC Report prepared as part of the product review should be submitted by 5 p.m., 10 days after the date of USITC publication of its report.

Steven Falken,
Executive Director for GSP, Chairman, GSP Subcommittee of the Trade Policy Staff Committee.

BILLING CODE 3190-W3-P

[FR Doc. 04-3868 Filed 2-23-04; 8:45 am]

BILLING CODE 3190-W3-C